DEPARTMENT OF THE INTERIOR

National Park Service

Environmental Statements; Notice of Availability

AGENCY: National Park Service, Interior.

ACTION: Notice of availability.

SUMMARY: Pursuant to section 102(2)(C) of the National Environmental Policy Act of 1969, the National Park Service announces the availability of the draft General Management Plan and draft Environmental Impact Statement for Morristown National Historical Park, New Jersey. The draft GMP/EIS proposes a long-term approach to managing Morristown NHP. Consistent with the park's mission, NPS policy, and other laws and regulations, three alternatives are presented to guide the management of the park over the next 15 to 20 years. The alternatives incorporate various zoning and management prescriptions to ensure resource preservation and public enjoyment of the park. The environmental consequences that are anticipated from implementing the various alternatives are evaluated in the report. Impact topics include cultural and natural resources, visitor experience, park operations, the socioeconomic environment, impairment, and sustainability. Alternative C is the preferred alternative.

DATES: The draft GMP/EIS will remain on public review for 60 days, from February 7, 2003 through April 8, 2003.

FOR FURTHER INFORMATION CONTACT: Superintendent, Morristown National Historical Park, 30 Washington Place, Morristown, NJ 07960, (973) 539-2016, ext. 201.

SUPPLEMENTARY INFORMATION: Copies of the document will be available for review at the following locations:

• Morristown National Park headquarters, 30 Washington Place, Morristown, New Jersey

• Morris County Library, 30 E. Hanover Avenue, Whippany, New Jersey

• The Joint Free Public Library of Morristown and Morris Township, 1 Miller Road, Morristown, New Jersey

• Mendham Borough Library, 10 Hilltop Road, Mendham, New Jersey

• Bernards Township Library, 32 S. Maple Avenue, Basking Ridge, New Jersey

• Somerset County Library, 1 Vogt Drive, Bridgewater, New Jersey

To request copies of the document, please contact the park. After public and interagency review of the draft GMP/EIS, comments will be considered, and a final EIS, followed by a Record of Decision, will be prepared. The process is anticipated to be completed by July 2003.

Comments on the draft General Management Plan/Environmental Impacts Statement should be submitted to Brian Aviles, Project Manager, at the NPS Boston Support Office, 15 State Street, Boston, MA 02109. Comments may also be faxed to (617) 223-5164.

Dated: January 9, 2003.
Michael D. Henderson,
Superintendent, Morristown National Historical Park.

[FR Doc. 03-5500 Filed 3-6-03; 8:45 am]

BILLING CODE 4310-70-P